DEPARTMENT OF ENERGY

Federal Energy Regulatory Commission

Combined Notice of Filings #1

Take notice that the Commission received the following electric rate filings:

Docket Numbers: ER10-3099-018.

Applicants: RC Cape May Holdings, LLC.

Description: Second Supplement to June 30, 2017 Triennial Market-Based Rate Update Filing for the Northeast Region of RC Cape May Holdings, LLC.

Filed Date: 1/26/18.

Accession Number: 20180126-5105.

Comments Due: 5 p.m. ET 2/16/18.

Docket Numbers: ER12-1266-008.

Applicants: Midcontinent Independent System Operator, Inc.

Description: Compliance filing: 2018-01-26_Order 745 Amended Compliance Filing to be effective 6/12/2012.

Filed Date: 1/26/18.

Accession Number: 20180126-5101.

Comments Due: 5 p.m. ET 2/16/18.

Docket Numbers: ER17-481-004.

Applicants: CPV Maryland, LLC.

Description: Compliance filing: Compliance Filing of Reactive Power Rate Schedule in ER17-481 and EL17-39 to be effective 2/1/2017.

Filed Date: 1/25/18.

Accession Number: 20180125-5137.

Comments Due: 5 p.m. ET 2/15/18.

Docket Numbers: ER17-1191-004.

Applicants: Otter Tail Power Company.

Description: Compliance filing: Compliance of Executed Rate Schedule No. 151 with Minnkota to be effective 5/15/2017.

Filed Date: 1/26/18.

Accession Number: 20180126-5152.

Comments Due: 5 p.m. ET 2/16/18.

Docket Numbers: ER17-1666-002.

Applicants: Red Pine Wind Project, LLC.

Description: Notice of Non-Material Change in Status of Red Pine Wind Project, LLC.

Filed Date: 1/26/18.

Accession Number: 20180126-5068.

Comments Due: 5 p.m. ET 2/16/18.

Docket Numbers: ER17-2085-001.

Applicants: Alliant Energy Corporate Services, Inc.

Description: Compliance filing: AECS Reactive Power Compliance Filing to be effective 9/1/2017.

Filed Date: 1/25/18.

Accession Number: 20180125-5162.

Comments Due: 5 p.m. ET 2/15/18.

Docket Numbers: ER17-2258-001.

Applicants: Rock Falls Wind Farm LLC.

Description: Notice of Non-Material Change in Status of Rock Falls Wind Farm LLC.

Filed Date: 1/26/18.

Accession Number: 20180126-5062.

Comments Due: 5 p.m. ET 2/16/18.

Docket Numbers: ER17-2409-001.

Applicants: Alliant Energy Corporate Services, Inc.

Description: Compliance filing: AECS Reactive Power Compliance Filing to be effective 11/1/2017.

Filed Date: 1/25/18.

Accession Number: 20180125-5163.

Comments Due: 5 p.m. ET 2/15/18.

Docket Numbers: ER18-152-001.

Applicants: Otter Tail Power Company.

Description: Compliance filing: Compliance Filing of Executed Coyote 1 Station Transmission Facilities Agreement to be effective 12/24/2017.

Filed Date: 1/26/18.

Accession Number: 20180126-5167.

Comments Due: 5 p.m. ET 2/16/18.

Docket Numbers: ER18-716-000.

Applicants: New England Power Company.

Description: Tariff Cancellation: Notice of Cancellation of Rate Schedule No. 484 to be effective 3/28/2018.

Filed Date: 1/26/18.

Accession Number: 20180126-5006.

Comments Due: 5 p.m. ET 2/16/18.

Docket Numbers: ER18-717-000.

Applicants: Commonwealth Edison Company, PJM Interconnection, L.L.C., Midwest Generation, LLC.

Description: Compliance filing: ComEd submits Notice of Termination of IA, Service Agreement No. 1064 to be effective N/A.

Filed Date: 1/26/18.

Accession Number: 20180126-5050.

Comments Due: 5 p.m. ET 2/16/18.

Docket Numbers: ER18-718-000.

Applicants: Guzman Energy Partners LLC.

Description: § 205(d) Rate Filing: Market-Based Rate Tariff #1 Amendment to be effective 10/4/2017.

Filed Date: 1/26/18.

Accession Number: 20180126-5079.

Comments Due: 5 p.m. ET 2/16/18.

Docket Numbers: ER18-719-000.

Applicants: National Grid Generation LLC.

Description: § 205(d) Rate Filing: A&R PSA Amendment No. 3 to be effective 4/1/2018.

Filed Date: 1/26/18.

Accession Number: 20180126-5099.

Comments Due: 5 p.m. ET 2/16/18.

Docket Numbers: ER18-720-000.

Applicants: Sierra Pacific Power Company.

Description: Tariff Cancellation: Rate Schedule No. 27—SPPC/BPA GTA Cancellation to be effective 1/27/2018.

Filed Date: 1/26/18.

Accession Number: 20180126-5103.

Comments Due: 5 p.m. ET 2/16/18.

Docket Numbers: ER18-721-000.

Applicants: ITC Midwest LLC.

Description: § 205(d) Rate Filing: Filing of a Master JUA for Distribution Underbuild with T.I.P. REC to be effective 3/27/2018.

Filed Date: 1/26/18.

Accession Number: 20180126-5120.

Comments Due: 5 p.m. ET 2/16/18.

Take notice that the Commission received the following public utility holding company filings:

Docket Numbers: PH18-4-000.

Applicants: Spire Inc.

Description: Spire Inc. submits FERC 65-A Notice of Material Change in Fact of Exemption Notification.

Filed Date: 1/26/18.

Accession Number: 20180126-5162.

Comments Due: 5 p.m. ET 2/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 26, 2018.
Nathaniel J. Davis, Sr.,
Deputy Secretary.

[FR Doc. 2018-02224 Filed 2-2-18; 8:45 am]

BILLING CODE 6717-01-P